ENVIRONMENTAL PROTECTION AGENCY

[FRL-7965-5]

National Environmental Justice Advisory Council; Notice of Charter Renewal

AGENCY: Environmental Protection Agency.

ACTION: Notice of charter renewal.

The Charter for the Environmental Protection Agency's (EPA) National Environmental Justice Advisory Council (NEJAC) will be renewed for an a one-year period, in accordance with the provisions of the Federal Advisory Committee Act (FACA), 5 U.S.C. App. II § 9(c). The purpose of the NEJAC is to provide independent advice and recommendations to the Administrator on areas relating to environmental justice.

EPA has determined that the NEJAC is in the public interest and supports the Agency in performing its duties and responsibilities.

Inquiries may be directed to Charles Lee, NEJAC Designated Federal Officer, U.S. EPA, (mail code 2201A), 1200 Pennsylvania Avenue, NW, Washington, DC 20460.

Dated: September 1, 2005.
Barry E. Hill,
Director, Office of Environmental Justice, Office of Enforcement and Compliance Assurance.

[FR Doc. 05-17817 Filed 9-7-05; 8:45 am]

BILLING CODE 6560-50-P